DEPARTMENT OF THE INTERIOR

National Park Service

Announcement of Subsistence Resource Commission meeting

AGENCY: National Park Service, Interior.

SUMMARY: The Superintendent of Cape Krusenstern National Monument and Kobuk Valley National Park and the Chairpersons of the Subsistence Resource Commissions for Cape Krusenstern National Monument and Kobuk Valley National Park announce a forthcoming joint meeting of the Cape Krusenstern National Monument and Kobuk Valley National Park Subsistence Resource Commissions. The following agenda items will be discussed:

(1) SRC Chairs Welcome—Introduction of commission members and guests. Review and approve agenda.

(2) Review and approve minutes from last meeting.

(3) SRC review of regional issues.

(4) SRC review Subsistence Hunting Plan/and work session.

(5) Public and other agency comments.

(6) Identify agenda topics, set time and place of next SRC meeting.

(7) Adjournment.

DATES: The meeting will be held from 10:00 a.m. to 5:00 p.m. on Wednesday June 6 and 9:30 a.m. to 5:00 p.m. on Thursday, June 7. If needed, the Chairs may schedule evening sessions.

LOCATION: The meeting will be held at the U.S. Fish and Wildlife Service conference room in Kotzebue, Alaska. The U.S. Fish and Wildlife Service Office in Kotzebue is located at 160 2nd Street, Telephone (907) 442-3799.

FOR FURTHER INFORMATION CONTACT: David W. Spirtes, Superintendent, P.O. Box 1029, Kotzebue, Alaska 99752, Telephone (907) 442-3890 or Ken Adkisson at (800) 471-2352 or 443-2522.

SUPPLEMENTARY INFORMATION: The Subsistence Resource Commissions are authorized under Title VIII, section 808, of the Alaska National Interest Lands Conservation Act, Public Law 96-487 and operate in accordance with the provisions of the Federal Advisory Committees Act.

Robert L. Arnberger,
Regional Director.

[FR Doc. 01-14067 Filed 6-4-01; 8:45 am]

BILLING CODE 4310-70-P